DEPARTMENT OF AGRICULTURE

Forest Service

Nez Perce—Clearwater National Forests; Idaho; Forest Plan Revision for the Nez Perce-Clearwater National Forests

AGENCY: Forest Service, USDA.

ACTION: Revised notice of intent to prepare an environmental impact statement.

SUMMARY: The USDA Forest Service published a notice of intent (NOI) to prepare an environmental impact statement (EIS) in the Federal Register on July 15, 2014. The NOI served as the scoping document for the Forest Plan Revision for the Nez Perce—Clearwater National Forests, and solicited comments have been used in the preparation of a proposed Nez Perce—Clearwater National Forests Land Management Plan (Forest Plan) and draft EIS. Due to ongoing work on this planning effort since 2014, the Nez Perce-Clearwater National Forests (Forest) is updating the information in the original NOI. These updates identify new addresses and contact information, update where information on the project can be found, update the responsible official, and update the nature of the decision to be made.

DATES: Comments concerning the updated information in this notice will be most useful in the continued development of the proposed Forest Plan and draft EIS if received by October 7, 2019. The draft EIS is expected by late fall 2019 and a final EIS is expected by winter 2020/2021.

ADDRESSES: Comments concerning the updated information in this notice may be sent via email to: fpr_npclw@fs.fed.us. Written comments may also be sent via mail or hand-delivered to: Nez Perce-Clearwater National Forest Supervisor's Office, Attn: Forest Plan Revision, 903 3rd Street, Kamiah, ID 83536.

FOR FURTHER INFORMATION CONTACT: Zach Peterson, Forest Planner, Nez Perce—Clearwater National Forests, 903 3rd Street, Kamiah, ID 83536, 208-935-4239.

SUPPLEMENTARY INFORMATION: Since the publication of the original NOI in 2014 (79 FR 41252), there have been updates to the Responsible Official, Nature of the Decision to be Made, and the website for where updated information can be accessed. These updates are described below.

Responsible Official

The responsible official who will approve the Record of Decision is the Forest Supervisor for the Nez Perce—)Clearwater National Forests.

Nature of Decision To Be Made

The EIS process is meant to inform the Forest Supervisor in order to decide which alternative best maintains and restores National Forest System terrestrial and aquatic resources while providing ecosystem services and multiple uses, as required by the National Forest Management Act and the Multiple Use Sustained Yield Act. The revised Forest Plan will identify delineation of new management areas across the Forest, identify the potential timber sale quantity, make recommendations to Congress for Wilderness designation, and list the rivers and streams eligible and suitable for inclusion in the National Wild and Scenic Rivers System.

Proposed Action

For updates to the Proposed Action, refer to “Alternative Development” on the Forest's website at: http://bit.ly/NezClearFPR.

Public Involvement

The Forest is using information received during the comment period associated with the 2014 NOI; public information workshops and meetings with community groups throughout 2015; alternative development workshops, webinars, and open houses in 2018; and ongoing engagement with state, county, and tribal governments to inform the development of the draft EIS and draft revised Forest Plan. Comments submitted in response to the original 2014 NOI and throughout the continuing engagement do not need to be resubmitted. Comments submitted in response to the updated information in this notice will also be considered. Comments received in response to this solicitation, including names and addresses of those who comment, will be part of the public record for this proposed action. Comments submitted anonymously will be accepted and considered, however, anonymous comments will not provide the Agency with the ability to provide the respondent with subsequent environmental documents.

The decision to approve the revised Forest Plan for the Nez Perce—Clearwater National Forests will be subject to the objection process identified in 36 CFR part 219 subpart B (219.50 to 219.62). According to 36 CFR 219.53(a), those who may file an objection are individuals and entities who have submitted substantive formal comments related to plan revision during the opportunities provided for public comment during the planning process; this includes comments submitted in response to the 2014 NOI and comments submitted in response to the updated information in this notice.

The website location for information on this project has been updated. For updates, refer to the Quick Link: “Get Involved in Forest Planning! Collaboration and Participation Information” on the Forest's website at: http://bit.ly/NezClearFPR.

Dated: August 6, 2019.
Frank R. Beum,
Acting Associate Deputy Chief, National Forest System.

[FR Doc. 2019-19089 Filed 9-4-19; 8:45 am]

BILLING CODE 3411-15-P